DEPARTMENT OF HEALTH AND HUMAN SERVICES

Centers for Disease Control and Prevention

The National Center for Environmental Health (NCEH) of the Centers for Disease Control and Prevention (CDC) Announces the Following Meeting

Name: Public Meeting to Review and Re-evaluate Safe Airborne Exposure Limits (AELs) of Chemical Agent Sulfur Mustard (HD).

Time and Dates: 8 am-5 pm, September 11, 2001. 8 am-12 pm, September 12, 2001.

Place: Sheraton Colony Square Hotel, 188 14th Street NE at Peachtree Street, Atlanta, Georgia, 30361, Tel: (404) 892-6000 or (800) 422-7895.

Status: Open to the public, limited only by space available. The meeting room accommodates approximately 50 people.

Background: The chemical warfare material agent HD is no longer manufactured in the United States; however, it is currently stored at seven locations in the continental United States by the Department of Defense (DOD). Public Law 99-145 (50 U.S.C. 1521) mandates that these stockpiled lethal chemical agents be destroyed. In 1970, Public Law 91-121 and Pubic Law 91-441 (50 U.S.C. 1521) mandated that the Department of Health and Human Services must review DOD plans for disposing of the munitions and make recommendations to protect human health. In 1987, CDC requested public comment on recommendations for protecting human health and the environment against potential adverse effects of long-term exposure to low doses of agents G, GB, VX, mustard (H, HD, T) and lewisite (L). CDC incorporated the public comments and in 1988 recommended control limits for airborne exposures to agents G, GB, VX, H, HD, T and L for protection of workers involved in the demilitarization process and for the general public living in areas adjacent to demilitarization facilities. The U.S. Army adopted these control limits into policy in 1990. CDC held a public meeting in August, 2000 to re-evaluate the limits for agents G, GB, and VX based on newly developed risk models and any updated scientific data. CDC will soon publish its final recommendations for these levels in the Federal Register. As a follow-up to the August, 2000 public meeting, CDC will host a meeting this September to discuss how to conduct a similar re-evaluation of the exposure limits for agent HD in a demilitarization operational setting.

Purpose: The purpose of this meeting is to review the AELs set for HD, based on CDC's 1988 recommendations and to determine any modifications required to update these limits to reflect current findings. Based on newly available scientific studies and data, CDC will engage HD agent experts and the public in an evaluation of the current limits and recommend updated limits based on the public comments. To facilitate the public dialogue, CDC will provide a forum for general public interaction and serve as a vehicle for members of the public to provide their individual concerns.

Matters to be Discussed: Agenda items include (1) presentation of newly available scientific studies and data, (2) panel discussion by HD agent specialists, (3) recommended modifications to existing levels based on panel comments, and (4) collect public comments. There will be time for public input, questions, and comments.

Agenda items are subject to change as priorities dictate.

FOR FURTHER INFORMATION CONTACT: Sascha Beck, Chemical Demilitarization Branch, Division of Emergency and Environmental Health Services, NCEH, CDC, 4770 Buford Highway, NE (F-16), Atlanta, Georgia, 30341-3724, telephone 770/488-4078, fax 770/488-4127.

The Director, Management Analysis and Services Office, has been delegated the authority to sign Federal Register notices pertaining to announcements of meetings and other committee management activities, for both the Centers for Disease Control and Prevention and the Agency for Toxic Substances and Disease Registry.

Dated: August 23, 2001.
Carolyn J. Russell,
Director, Management Analysis and Services Office, Centers for Disease Control and Prevention (CDC).

[FR Doc. 01-21910 Filed 8-29-01; 8:45 am]

BILLING CODE 4163-18-P